DEPARTMENT OF COMMERCE

National Oceanic and Atmospheric Administration

RIN 0648-XA425

Endangered Species; File No. 15661

AGENCY: National Marine Fisheries Service (NMFS), National Oceanic and Atmospheric Administration (NOAA), Commerce.

ACTION: Notice; receipt of application.

SUMMARY: Notice is hereby given that the Commonwealth of the Northern Mariana Islands (CNMI) Division of Fish and Wildlife, (Ignacion dela Cruz, Responsible Party), has applied in due form for a permit to take green (Chelonia mydas) and hawksbill (Eretmochelys imbricata) sea turtles for purposes of scientific research.

DATES: Written, telefaxed, or e-mail comments must be received on or before June 10, 2011.

ADDRESSES: The application and related documents are available for review by selecting “Records Open for Public Comment” from the Features box on the Applications and Permits for Protected Species (APPS) home page, https://apps.nmfs.noaa.gov, and then selecting File No. 15661 from the list of available applications.

These documents are also available upon written request or by appointment in the following offices:

Permits, Conservation and Education Division, Office of Protected Resources, NMFS, 1315 East-West Highway, Room 13705, Silver Spring, MD 20910; phone (301) 713-2289; fax (301) 713-0376; and

Pacific Islands Region, NMFS, 1601 Kapiolani Blvd., Rm 1110, Honolulu, HI 96814-4700; phone (808) 944-2200; fax (808) 973-2941.

Written comments on this application should be submitted to the Chief, Permits, Conservation and Education Division

• By e-mail to NMFS.Pr1Comments@noaa.gov (include the File No. in the subject line of the e-mail),

• by facsimile to (301) 713-0376, or

• at the address listed above.

Those individuals requesting a public hearing should submit a written request to the Chief, Permits, Conservation and Education Division at the address listed above. The request should set forth the specific reasons why a hearing on this application would be appropriate.

FOR FURTHER INFORMATION CONTACT: Amy Hapeman or Colette Cairns, (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

The CNMI Division of Fish and Wildlife proposes to conduct research on sea turtles to characterize population structure, size class composition, foraging ecology, and migration patterns for green and hawksbill sea turtles in the Northern Mariana Islands with an eye toward identifying potential conservation or critical habitat areas for immature and adult green and hawksbill turtles. The project would consist of counts and hand captures of sea turtles during vessel surveys. Up to 300 green and 50 hawksbill sea turtles would be captured, measured, weighed, flipper tagged, passive integrated transponder tagged, temporarily marked, tissue sampled, photographed, and released annually. A subset of the turtles would be satellite tagged before release and then tracked from the vessel. A small number of sea turtle carcasses, tissues or parts would also be opportunistically salvaged each year. The permit would be valid for five years.

Dated: May 5, 2011.
Tammy C. Adams,
Acting Chief, Permits, Conservation and Education Division, Office of Protected Resources, National Marine Fisheries Service.

[FR Doc. 2011-11567 Filed 5-10-11; 8:45 am]

BILLING CODE 3510-22-P